DEPARTMENT OF TRANSPORTATION

Research and Special Programs Administration

49 CFR Parts 192 and 195

[Docket No. RSPA-03-15852; Notice 1]

RIN 2137-AD96

Pipeline Safety: Public Education Programs for Hazardous Liquid and Gas Pipeline Operators

AGENCY: Research and Special Programs Administration (RSPA), Department of Transportation (DOT).

ACTION: Notice of proposed rulemaking.

SUMMARY: The Research and Special Programs Administration's (RSPA) Office of Pipeline Safety (OPS) proposes to require all gas and hazardous liquid pipeline operators to develop and implement public education programs based on the provisions of the American Petroleum Institute's (API) Recommended Practice (RP) 1162, Public Awareness Programs for Pipeline Operators.¹

¹ API RP 1162 provides guidance on development, implementation, and evaluation of pipeline operator “public awareness” programs. Note that “public education programs,” as used in this notice, and “public awareness programs,” as used in API RP 1162, are considered to be the same and are used interchangeably for the purposes of this proposed rule.

DATES: Interested persons are invited to submit written comments by August 23, 2004. Late-filed comments will be considered to the extent practicable.

ADDRESSES: You may submit comments (identified by DOT DMS Docket Number RSPA-03-15852) by any of the following methods:

• Web site: http://dms.dot.gov. Follow the instructions for submitting comments on the DOT electronic docket site.

• Fax: 1-202-493-2251.

• Mail: Docket Management Facility; Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number or Regulatory Identification Number (RIN for this rulemaking. For detailed instructions on submitting comments and additional information on the rulemaking process, see the Public Participation heading of the SUPPLEMENTARY INFORMATION section of this document. Note that all comments received will be posted without change to http://dms.dot.gov, including any personal information provided. Please see the Privacy Act heading under Regulatory Notices.

Docket: For access to the docket to read background documents or comments received, go to http://dms.dot.gov at any time or to Room PL-40 on the plaza level of the Nassif Building, 400 Seventh Street, SW., Washington, DC, between 9 a.m. and 5 p.m., Monday through Friday, except Federal holidays.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78) or you may visit http://dms.dot.gov.

You may obtain copies of this proposed rule or other material in the docket. All materials in this docket may be accessed electronically at http://dms.dot.gov.

FOR FURTHER INFORMATION CONTACT: Juan Carlos Martinez (202) 366-1933, by fax at (202) 366-4566, or by mail at U.S. Department of Transportation, 400 Seventh Street, SW., Washington, DC 20590, regarding the subject matter of this proposed rule. Additional information about this initiative may be obtained by accessing RSPA/OPS’ Internet Web page at http://ops.dot.gov.

SUPPLEMENTARY INFORMATION:

Background

This proposed rule addresses pipeline operator programs to enhance awareness of and communications with:

• The affected public (i.e., residents and places of congregation, such as businesses and schools) in the vicinity of the pipeline and associated right-of-way.

• Local and State emergency response and planning officials (i.e., State and county emergency management agencies (EMAs) and local emergency planning committees (LEPCs)).

• Local public officials and governing councils.

• Excavators.

Public education and understanding of pipeline operations is vital to the continued safe operation of pipelines. Pipeline operator public education programs are an important factor in establishing communications and providing information necessary to enhance public understanding of how pipelines function and the public's role in promoting pipeline safety. When effectively and consistently managed, a pipeline operator public education program can provide significant value in enhanced public safety, improved pipeline safety and environmental performance, and enhanced emergency response coordination.

Enhancing requirements for pipeline operator public education programs is part of a broad effort by RSPA/OPS to enhance safety through promoting improved public communications by the pipeline industry and government pipeline regulators.

In proposing new requirements for pipeline operator public education programs, RSPA/OPS is also responding to calls by Congress in the Pipeline Safety Improvement Act of 2002 (Pub. L. 107-355; December 17, 2002) for standards prescribing the elements of public education programs. Simultaneously with this mandate, the pipeline industry has been developing recommendations for pipeline operator public education programs, which resulted in the development of API RP 1162. This standard was developed with extensive collaboration by all segments of the industry, input from RSPA/OPS and State pipeline regulators, and an opportunity for public review and comment. RSPA/OPS is taking advantage of the substantial work accomplished in the completion of this standard to adopt its provisions in this rule.²

² A link to API RP 1162 on the API standards Web site may be found at http://primis.rspa.dot.gov/edu/rp1162.htm.

Development of a new rule establishing additional requirements for pipeline operator public education programs is part of RSPA/OPS' broader pipeline safety communications initiative to promote pipeline safety by requiring enhanced communications by the pipeline industry with the public and to increase public awareness of pipeline operations and safety issues. In 2000, RSPA/OPS sponsored a pipeline communications exploratory group under the auspices of the statutorily mandated Technical Pipeline Safety Standards Committee (TPSSC) and the Technical Hazardous Liquid Pipeline Safety Standards Committee (THLPSSC), composed of representatives of RSPA/OPS, pipeline companies, industry groups, and local jurisdictions. The group met to explore the subject of pipeline communications and to identify opportunities for improvement.

Recent rulemaking activities by RSPA/OPS (e.g., Liquid and Gas Pipeline Integrity Management, Operator Qualification) included increased efforts to inform the public regarding pipeline safety and regulation. These efforts have included public meetings and public-access Web sites. For example, the following public meetings on the Integrity Management rulemakings were held:

• November 18-19, 1999, in Herndon, Virginia.

• February 12-14, 2001, in Arlington, Virginia.

• August 7-8, 2001, in Houston, Texas.

• July 23-24, 2002, in Houston, Texas.

• March 14, 2003, in Washington, DC.

• April 25, 2003, in Dulles, Virginia.

The February 2001 public meeting in Arlington, Virginia, included presentations from different stakeholder viewpoints on public communications needs and the nature of additional pipeline information needed by the public, local officials, and emergency responders. Materials from this meeting are available in the electronic docket referenced above.

Current RSPA/OPS public communications initiatives include:

• Development and maintenance of a public information Web site http://primis.rspa.dot.gov/pipelineinfo).

• The Community Assistance and Technical Support (CATS) program with new positions at each RSPA/OPS regional office.

• A partnership between RSPA/OPS and the National Association of State Fire Marshals (NASFM) to develop information and training aimed at enhancing the safety of first responders to pipeline accidents and assessing pipeline security risks.

• A partnership between RSPA/OPS and the Transportation Research Board (TRB) of the National Research Council to examine model land use practices by local communities, with an objective of better managing encroachment risks.

• Development of mechanisms to provide information to local officials, such as the location of pipeline integrity assessments and centralized sources for post-accident information.

RSPA/OPS also sponsored meetings held in Bellevue, Washington, and Houston, Texas, on the subject of public communications. The general response from the public to these communications efforts by RSPA/OPS was an expressed desire to receive more information on specific pipelines.

The Bellevue, Washington, meeting (transcript at http://primis.rspa.dot.gov/comm/Bellevue_2003_01_29.htm) included panel discussions during which local and State officials, local emergency planners and responders, and public representatives discussed the types of information that these stakeholders would like to receive from pipeline operators, the groups that should receive the information, and the modes of communication that would be effective in conveying the information. The panel members supported increased information from operators to members of the public in areas near pipeline facilities, to local officials of areas intersected by pipelines and areas that could be affected by releases from pipelines, and to emergency responders in areas that could be impacted by releases. The panel members advocated that operators provide this information through a wide range of communication modes, including published material, electronic media, mailings, and live meetings. The panel indicated a variety of information from operators could be important to understanding pipelines and promoting safety. Comments of other attendees at the meeting echoed the panel's comments.

In response to these comments, RSPA/OPS has supported the pipeline industry's initiatives to develop guidelines for operator public education programs. These initiatives resulted in API RP 1162.

Pipeline Safety Improvement Act of 2002

On December 17, 2002, Congress enacted the Pipeline Safety Improvement Act (PSIA) of 2002, mandating public education activities by pipeline operators and DOT, with a deadline of one year for performing these activities. These mandates require that:

• Each pipeline owner and operator carry out a continuing public education program.

• Each pipeline owner and operator use a one-call notification system prior to excavation and other damage prevention activities.

• Each pipeline owner and operator communicate to the public the possible hazards associated with unintended releases from the pipeline facility, including:

—Physical indications that such a release may have occurred,

—Steps that should be taken for public safety in the event of a pipeline release, and

—How to report a release or other event.

• Each pipeline owner and operator review its existing public education program for effectiveness and modify the program as necessary to include activities to advise affected municipalities, school districts, businesses, and residents of pipeline locations.

• DOT issue standards prescribing the elements of an effective public education program and develop material for use in the program.

As a first step in responding to these mandates, RSPA/OPS prepared a self-assessment form for each operator's use in reviewing its public education program. The draft form was first distributed to attendees at two public workshops held during September 2003 in Houston, Texas, and Baltimore, Maryland. The results of the self-assessment (which is based on a self-assessment process defined in API RP 1162) can serve as the basis for defining any necessary improvements to operator programs. RSPA/OPS issued an advisory notice ³ that required all pipeline operators to complete the self-assessment form and return it to RSPA/OPS by December 17, 2003 (the deadline prescribed in the PSIA).

³ 68 FR 66155, Pipeline Safety: Self-Assessment of Public Education Programs, November 25, 2003. This notice may be viewed at http://ops.dot.gov/whatsnew/AdvBulletinADB0308.pdf.

To more fully implement the mandates of the PSIA, RSPA/OPS encouraged and supported the development of API RP 1162 and is now proposing this rule for pipeline operator public education programs, utilizing the provisions of API RP 1162 for these programs.

American Petroleum Institute (API) Recommended Practice API RP 1162

In 2001, at the request of RSPA/OPS, API began the development of a new standard for pipeline operator public education programs, designated as API Recommended Practice API RP 1162, through formation of an expanded task force that included representation from gas and liquid transmission pipeline operators and gas distribution pipeline operators. Representatives of RSPA/OPS and the National Association of Pipeline Safety Representatives (NAPSR) (representing State pipeline regulatory agencies) attended all meetings of the task force as observers and provided direction and input into both the process and the content of the standard. RSPA/OPS recognized the potential of the new standard to support its efforts to promote safety through improved public communications.

The API RP 1162 task force developed a draft standard for comment, which was presented at a meeting in Houston, Texas, on July 25, 2002. The meeting was attended by public officials and local emergency planning committees (LEPCs), as well as pipeline companies. Comments were also invited through the API Web site. Comments were incorporated in a new draft standard that API presented at a subsequent public meeting on pipeline public communications in Bellevue, Washington on January 29, 2003. This meeting was co-sponsored by RSPA/OPS, State pipeline regulators, and pipeline industry organizations. Additional comments were incorporated and a revised draft was issued on May 29, 2003, for API balloting and the beginning of the American National Standards Institute (ANSI) review process. A final corrected draft was issued on September 2, 2003. This draft was presented at the September 2003, public workshops held in Houston, TX and Baltimore, MD.

Pipeline industry organizations generally agreed with the direction of RSPA/OPS and the work of the API RP 1162 committee. In response, API issued a Joint Statement on Enhancing Public Awareness Programs for the Pipeline Industry (May 28, 2003), which committed the industry to adopting “* * * a consensus standard establishing a baseline public awareness program for pipeline operators * * *” and urged RSPA/OPS “* * * to satisfy any need to supplement current requirements for public awareness programs by incorporating [API] RP 1162 into its regulations * * *.” The joint statement was signed by executives of the following organizations:

• API;

• Association of Oil Pipelines (AOPL);

• American Gas Association (AGA);

• Interstate Natural Gas Association of America (INGAA);

• American Public Gas Association (APGA).

The Proposed Rule

RSPA/OPS proposes a rule to require each pipeline operator to develop, implement, and maintain a public education program that complies with the requirements of API RP 1162. This proposed rule applies to all pipelines regulated under 49 CFR parts 192 and 195, including:

• Interstate and intrastate hazardous liquid transmission pipelines.

• Interstate and intrastate natural gas transmission pipelines.

• Natural gas distribution pipelines.

• Oil and gas gathering lines.

If an operator's current public education program does not comply with API RP 1162, the operator would be required to modify the program to come into compliance. Information on API RP 1162, including a link to the document, may be found at: http://primis.rspa.dot.gov/edu/rp1162.htm.

The proposed rule would require all pipeline operators to develop and implement public education programs that address the following stakeholder audiences:

• Affected public.

• Local officials.

• Emergency responders.

• Excavators/Contractors.

• Land Developers.

• One-Call Centers.

For each stakeholder audience, API RP 1162 defines requirements for public education programs, including:

• The message to be delivered to each audience.

• The frequency of message delivery.

• The methods/media to deliver the message.

The requirements include baseline program requirements, which apply throughout the operator's pipeline system, and supplemental requirements, which apply to specific locations along the pipeline system where relevant location-specific factors make additional education activities necessary. Operators are required to consider the following factors when deciding where supplemental program enhancements should be added to the program, what enhancements should be added, and which audience groups should be the target of the enhancements:

• Potential Hazards.

• High Consequence Areas (as defined in 49 CFR parts 192 and 195).

• Population density.

• Land development activity.

• Land farming activity.

• Third party damage incidents.

• Environmental considerations.

• Pipeline history in an area.

• Specific local situations.

• Regulatory requirements.

• Results from previous public education program evaluations.

• Other relevant needs.

Baseline and supplemental program requirements for different pipeline operator types are summarized in a set of tables in API RP 1162 that may be found at: http://primis.rspa.dot.gov/edu/RP1162/Sect-2_Tables_Prelim_Post-to-Web_090903.pdf.

Each operator is required to establish and periodically update a written public education program covering all program elements. The written program should include:

• A statement of the company's management commitment to achieving effective public/community education.

• A description of the roles and responsibilities of personnel administering the program.

• Identification of key personnel and their titles (including senior management responsible for the implementation, delivery and ongoing development of the program).

• Identification of the targeted audiences and the information to be communicated to each.

• Identification of the media and methods of communication to be used in the program, as well as the basis for selecting the chosen method and media.

• Documentation of the frequency and the basis for selecting that frequency for communicating with each of the targeted audiences.

• Identification of program enhancements, beyond the baseline program, and the basis for implementing such enhancements.

• The program evaluation process, including the evaluation objectives, methodology to be used to perform the evaluation and analysis of the results, and criteria for program improvement based on the results of the evaluation.

Regulatory Analyses and Notices

Executive Order 12866 and DOT Regulatory Policies and Procedures

The Department of Transportation (DOT) does not consider this proposed rule to be a significant regulatory action under section 3(f) of Executive Order 12866 (58 FR 51735; October 4, 1993). RSPA does not consider this proposed rule significant under DOT's regulatory policies and procedures (44 FR 11034: February 26, 1979). We prepared a Draft Regulatory Evaluation for this proposed rule and placed it in the public docket for review. The evaluation concludes that there will only be minimal additional costs for operators to comply with the proposed rule, as the rule is based on the API RP 1162, which encompasses consensus industry standard practices. Most operators have existing public education programs, some of which may need to be expanded to meet the requirements of API RP 1162, but this is not expected to involve significant cost. A primary benefit of this rulemaking is complying with Congressional mandates. In addition, increased public awareness that is obtained through the expansion of public education programs is expected to have some benefits due to a potential for fewer pipeline accidents from third party damage and improved emergency response. Pipeline industry organizations have already endorsed the use of API RP 1162 as the basis for new regulatory requirements for pipeline operator public education programs.

Regulatory Flexibility Act

Under the Regulatory Flexibility Act (5 U.S.C. 601 et seq.), RSPA/OPS must consider whether a rulemaking would have a significant impact on a substantial number of small entities. This proposed rule has been developed in accordance with Executive Order 13272 (Proper Consideration of Small Entities in Agency Rulemaking) and DOT's procedures and policies to promote compliance with the Regulatory Flexibility Act. This ensures that the potential impacts of proposed rules on small entities are properly considered. The majority of gas transmission and hazardous liquid pipeline operators are large entities. Of the pipeline operators that are small entities, the majority are gas distribution operators. Two trade associations represent natural gas distribution operators: The AGA and the APGA. The APGA represents municipally-operated gas distribution systems. Conversations between RSPA and APGA indicate that there are approximately 950 municipally operated gas distribution operators. APGA represents 600 of these. Of these 600, APGA estimates that 550 of them would be classified as small entities. The APGA has held two teleconferences for its members concerning implementation of the public education program requirements of API RP 1162. They have indicated that compliance with the provisions of this standard would not represent a significant impact on their members, because of the possibility of flexibility in implementing the standard's requirements. APGA indicated that it would be willing to help small pipeline operators with compliance with this regulation. Based upon the above information showing that the economic impact of this rule on small entities will be minimal, I certify under section 605 of the Regulatory Flexibility Act that this regulation will not have a significant impact on a substantial number of small entities.

Paperwork Reduction Act

This proposed rule contains some information collection requirements. As required by the Paperwork Reduction Act of 1995 (44 U.S.C. 3507(d)), DOT will submit a copy of the Paperwork Reduction Act analysis to the Office of Management and Budget for its review and to the docket. The requirements for information collection include development by each pipeline operator of a written public education program in compliance with API RP 1162. In addition, API RP 1162 includes requirements for public education program documentation and recordkeeping. The standard was developed by a pipeline industry group and reflects industry standard practices for these aspects of operator programs. Some operators may have increased required levels of documentation and recordkeeping, but these are not expected to be significant. Therefore, RSPA concludes that this proposed rule contains only a minor additional paperwork burden. RSPA has estimated that it will take each operator an additional 8 hours to submit these programs to RSPA, at a total cost over the industry of $19,200 per year.

Comments are invited on: (a) The need for the proposed collection of information for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including the use of appropriate automated, electronic, mechanical, or other technological collection techniques.

Executive Order 13175

This proposed rule has been analyzed in accordance with the principles and criteria contained in Executive Order 13084 (Consultation and Coordination with Indian Tribal Governments). Because this proposed rule does not significantly or uniquely affect the communities of the Indian tribal governments and does not impose substantial direct compliance costs, the funding and consultation requirements of Executive Order 13175 do not apply.

Executive Order 13132

This proposed rule has been analyzed in accordance with the principles and criteria contained in Executive Order 13132 (Federalism). This proposed rule does not propose any regulation that:

(1) Has substantial direct effects on the States, the relationship between the national government and the States, or the distribution of power and responsibilities among the various levels of government,

(2) Imposes substantial direct compliance costs on States and local governments, or

(3) Preempts State law.

Therefore, the consultation and funding requirements of Executive Order 13132 (64 FR 43255; August 10, 1999) do not apply. It should be noted that representatives of the National Association of Pipeline Safety Representatives (NAPSR), which includes State pipeline safety regulators, have participated extensively in the development and review of API RP 1162, which forms the basis for this proposed rule.

Unfunded Mandates

This proposed rule does not impose unfunded mandates under the Unfunded Mandates Reform Act of 1995. It does not result in costs of $100 million or more to either State, local, or tribal governments, in the aggregate, or to the private sector. An industry working group, along with participants from NAPSR, developed API RP 1162, which forms the basis for the rule. Industry organizations have endorsed this approach to setting requirements for operator public education programs. RSPA/OPS believes this to be the least burdensome alternative that achieves the objective of the rule.

National Environmental Policy Act

RSPA/OPS has analyzed the proposed rule for purposes of the National Environmental Policy Act (42 U.S.C. 4321 et seq.) and have preliminarily determined that this action would not significantly affect the quality of the environment. The rule requires development of pipeline operator public education programs that follow API RP 1162. This may result in expanded public education activities by operators, but will not result in physical disruption of the environment in the vicinity of pipelines. These additional public education activities can have a positive environmental effect, if increased public awareness results in a lower frequency of pipeline accidents due to excavation damage or if increased awareness results in lower consequences of pipeline accidents due to more effective emergency response to accidents. These potential positive benefits are not expected to be significant, however. The Environmental Assessment of this proposed rule is available for review in the docket.

Executive Order 13211

This proposed rulemaking is not a “significant energy action” under Executive Order 13211 (Actions Concerning Regulations That Significantly Affect Energy Supply, Distribution, or Use). It is not a significant regulatory action under Executive Order 12866 and is not likely to have a significant adverse effect on the supply, distribution, or use of energy. Further, this rulemaking has not been designated by the Administrator of the Office of Information and Regulatory Affairs as a significant energy action.

List of Subjects

49 CFR Part 192

Agency procedures, Gas, Natural gas, Pipeline safety, Public education, Reporting and recordkeeping requirements.

49 CFR Part 195

Agency procedures, Hazardous liquid, Oil, Petroleum, Pipeline safety, Public education, Reporting and recordkeeping requirements.

In consideration of the foregoing, RSPA/OPS proposes to amend parts 192 and 195 of title 49 of the Code of Federal Regulations as follows:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, and 60118; and 49 CFR 1.53.

2. Section 192.7 is amended to revise the table in paragraph (c)(2) by adding a new item B.(5) to read as follows:

§ 192.7 Incorporation by reference.

* * * * *

(c) * * *

(2) * * *

Source and name of referenced material | 49 CFR reference
A. * * * |
B. * * * |
(5) API RP 1162 “Public Awareness Programs for Pipeline Operators” (2003) | § 192.616
* * * * *

3. Section 192.616 is revised to read as follows:

§ 192.616 Public education.

Each pipeline operator shall establish a continuing public education program to enable all interested and affected parties to recognize a gas pipeline emergency, to react safely to the emergency, and to report the emergency to the operator or appropriate public officials. Each operator is required to develop, implement, and maintain a public education program that complies with standard API RP 1162 (IBR, see § 192.7).

PART 195—TRANSPORTATION OF HAZARDOUS LIQUIDS BY PIPELINE

4. The authority citation for part 195 continues to read as follows:

Authority: 49 U.S.C. 5103, 60102, 60104, 60108, 60109 and 60118; and 49 CFR 1.53.

5. Section 195.3 is amended to revise the table in paragraph (c) by redesignating items B.(13) through B.(16) as B.(14) through B.(17) and adding a new item B.(13) to read as follows:

§ 195.3 Material incorporated by reference.

* * * * *

(c) * * *

Source and name of referenced material | 49 CFR reference
A. * * * |
B. * * * |
(13) API RP 1162 “Public Awareness Programs for Pipeline Operators” (2003) | § 195.440; 195
(14) API Recommended Practice 2003 “Protection Against Ignitions Arising out of Static, Lightning, and Stray Currents” (6th edition, 1998) | §§ 195.134; 195.444; 195.405(a)
(15) API Publication 2026 “Safe Access/Egress Involving Floating Roofs of Storage Tanks in Petroleum Service” (2nd edition, 1998) | § 195.405(b)
(16) API Recommended Practice 2350 “Overfill Protection for Storage Tanks In Petroleum Facilities” (2nd edition, 1996) | § 195.428(c)
(17) API Standard 2510 “Design and Construction of LPG Installations” (7th edition, 1995) | §§ 195.132(b)(3); 195.205(b)(3); 195.264(b)(2); 195.264(e)(4); 195.307(e); 195.428(c); 195.432(c)
* * * * * * *

6. Section 195.440 is revised to read as follows:

§ 195.440 Public education.

Each pipeline operator shall establish a continuing public education program to enable all interested and affected parties to recognize a hazardous liquid pipeline emergency, to react safely to the emergency, and to report the emergency to the operator or appropriate public officials. Each operator is required to develop, implement, and maintain a public education program that complies with the requirements of standard API RP 1162 (IBR, see § 195.3).

Issued in Washington, DC, on June 3, 2004.
Stacey L. Gerard,
Associate Administrator, Office of Pipeline Safety.

[FR Doc. 04-12993 Filed 6-23-04; 8:45 am]

BILLING CODE 4910-60-P